DEPARTMENT OF HEALTH AND HUMAN SERVICES

Indian Health Service

Organization, Functions, and Delegations of Authority

Part G

Indian Health Service

Part G, of the Statement of Organization, Functions, and Delegations of Authority of the Department of Health and Human Services (HHS), as amended at 70 FR 60350, October 17, 2005, and most recently as amended at 75 FR 38112, July 1, 2010 is hereby amended to establish an Office of Human Resources (OHR) and transfer the functions and staff from the Program Integrity and Ethics Staff (renamed as Division of Personnel Security and Ethics), Division of Commissioned Personnel Support, and Division of Human Resources, from the Office of Management Services and the Division of Health Professions Support, from the Office of Public Health Support to the Office of Human Resources within the IHS Headquarters (HQ) organizational structure. The OHR will ensure a competent work force appropriately assigned to carry out the IHS mission. The changes will relocate major human resources (HR) components within a single organization that reports to the Director, IHS. The Office will provide leadership and accountability of Agency personnel requirements, recruitment and retention, management, and training and development objectives and activities to support the Agency's mission.

Office of Human Resources (OHR) (GAN)

(1) Advises the Director, IRS, on HR goals, objectives, policies, and priorities of the Agency and the HR profession; (2) provides leadership, direction, and oversight of Agency-wide HR activities that support the IHS organization and programs; (3) develops and maintains strategic and operational HR plans to ensure a current and future work force for management, program delivery, and administrative support systems; (4) furthers the Agency's Indian Preference by ensuring compliance with Indian Preference statutory and policy requirements; (5) develops, promulgates, and administers Agency HR guidelines, and instructions in accordance with Office of Personnel Management (OPM), HHS, Public Health Service policies and the Indian Health Care Improvement Act (IHCIA), as amended; (6) ensures consistency in recruitment, training, and development applications, approaches, and outcomes by administering an Agency-wide HR system of functional responsibility, authority, and accountability; (7) issues standards to monitor and evaluate all IRS training and development activities and ensures that expenditures for recruitment, training, and development support the Agency's mission and goals; (8) provides Agency-wide policy guidance, consultation, and technical assistance on all IHS HR management, recruitment, and retention activities; (9) manages Agency work force information and conducts analyses, including trends analysis and forecasting necessary for Agency HR planning, management, and evaluation; (10) administers an Agency-wide information clearinghouse on HR recruitment, training, and development that serves all IHS organizations and Tribal health programs; (11) directs the Agency-wide scholarship, loan repayment, professional recruitment and retention, training, and development systems; (12) administers personnel management operations and services for HQ organizational units; (13) ensures a safe, healthy, and productive work environment for IHS personnel to carry out their assigned duties and responsibilities, and that HR factors are part of the Agency's decision making processes; (14) establishes and maintains liaison and coordination with a variety of public and private organizations to provide the IHS with up-to-date HR recruitment, management, training, retention and development technologies; (15) ensures that organization and program changes involve assessments of appropriate HR requirements, including work design, knowledge, skills, abilities, and work load; (16) prepares reports and studies reflecting IHS HR activities in response to the Congress, other Federal agencies, and Tribal Governments; and (17) participates in cross-cutting issues and processes, including, but not limited to emergency preparedness/security, budget formulation, self-determination issues, Tribal shares computations and resolution of audit findings as may be needed and appropriate.

Division of Personnel Security and Ethics (DPSE) (GANA)

(1) Advises the IHS Director and IHS management and supervisors of appropriate corrective and remedial actions to address or correct improprieties by Agency employees; (2) directs and provides leadership in the formulation of plans, guidance and evaluation of the IHS Personnel Security and Drug Testing Programs; (3) manages and directs the IHS “Ethics Program”, including the implementation of all requirements, providing advice to the IHS Director and serving as the Agency liaison with all outside investigative organizations related to personnel matters, such as the Office of Special Counsel, the Government Accountability Office (GAO) and the Office of Inspector General (OIG); (4) directs and monitors the annual required ethics training and ethics training of new employees within the required dates; (5) directs the fact-finding and resolution of allegations against Agency personnel of impropriety such as mismanagement of resources, fraud, waste, and abuse violations of the Standards of Ethical Conduct, Hatch Act and political activity and other forms of waste; (6) administers the IHS-wide management of the Agency hotline reports of allegations; and (7) develops and implements IHS directives and training for Standards of Ethical Conduct, Hatch Act and political activity, allegations and investigations of administrative fraud, waste and abuse, drug testing, and personnel security.

Personnel Security Branch (PSB) (GANA1)

(1) Administers and coordinates the IRS personnel security program and IHS drug testing program; (2) administers and coordinates all background checks and adjudicates findings; (3) coordinates with the OPM on tracking background checks for all Agency personnel; (4) works with IHS Area Office Personnel Security Representatives on timely processing of backgrounds and adjudication of findings; and (5) provides guidance for determining position sensitivity in accordance with the OPM requirements for position sensitivity and public trust.

Ethics Branch (EB) (GANA2)

(1) Administers and coordinates the IHS ethics program, including the implementation of all requirements and providing advice to the Agency on actions necessary to ensure compliance with ethics laws and policies; (2) reviews and approves public financial disclosure statements; (3) supervises and audits the confidential financial reports filed by regular and special government employees; (4) reviews and clears all requests for approval of outside activity and requests to accept travel expenses from non-Federal sources; (5) provides advice and assistance to current and former employees to ensure that decisions they make, and actions they take, are not, nor appear to be, affected by any question of conflict of interest; and (6) trains Agency employees on ethics statutes and regulations.

Division of Commissioned Personnel Support (DCPS) (GANB)

(1) Acts as the liaison between IHS and the Office of the Surgeon General (OSG), Division of Commissioned Corps Personnel and Readiness (DCCPR), and Division of Systems Integration; (2) advises the IHS Director, HQ Office Directors, Area Directors, supervisors, administrators, managers, officers and dependents regarding commissioned personnel benefits, policies, procedures, and regulations, as the IHS primary point of contact for commissioned personnel management; (3) develops Agency policies, procedures, and recommendations to Agency senior leadership regarding commissioned personnel management and provides recommendations to the DCCPR regarding commissioned corps policy; (4) provides direct support to the IHS Director and/or the Agency representative to the OSG as the Agency's official Surgeon General's Policy Advisory Council representative; (5) produces resource materials and conducts training sessions on commissioned personnel issues for officers, supervisors, and commissioned personnel specialists in IHS Area Offices; (6) manages the Agency honor and service award program for commissioned personnel; (7) facilitates and monitors the progress of Agency commissioned personnel adverse actions to assure accuracy, timeliness, and completion; (8) prepares reports reflecting INS commissioned corps activities in response to requests from Agency leadership, Congress, other Federal agencies, and Tribal Governments; (9) reviews and processes all commissioned personnel actions for the Agency; (10) develops and manages all Agency commissioned personnel direct access positions; (11) provides oversight and coordination of Temporary, Permanent, and Exception Proficiency Promotion processes; (12) evaluates need, develops, and provides commissioned personnel training, orientation, workshops, and seminars; (13) acts as a subject matter expert and advises Agency travel officials on commissioned personnel travel and Joint Federal Travel Regulation policy; (14) coordinates with DCCPR on all Agency deployment processes, obtains Agency approvals for officer deployments, provides oversight and tracks the status of Agency commissioned personnel during deployments; (15) facilitates and monitors all medical and compensation processes (including special pays) for accuracy, timeliness, and completion; and (16) advises Agency supervisors on the performance, discipline, and conduct of commissioned personnel.

Division of Human Resources (DHR) (GANC)

(1) Provides overall leadership and direction for the IHS HR program; (2) evaluates, establishes and implements HR policies for Agency-wide use and provides leadership to ensure implementation; (3) provides advice, consultation, guidance and assistance to IHS Leadership, Areas, and Regional HR Centers on civil service HR issues, programs and policies; (4) provides leadership and direction to the IFS Regional HR Centers; (5) provides recruitment, classification, and performance management services for all Senior Executive Service positions; and (6) manages the overall IHS appointment authority, personnel and pay action functions for civil service employees.

HR Systems and Analytics Branch (HRSAB) (GANC1)

(1) Serves as advisor to IHS leadership on HR systems solutions for IHS business needs; (2) provides project management for enterprise HR systems and functional aspects of IHS public and internal Web sites; (3) collaborates with business process owners to perform requirements analysis, selection, testing, implementation, deployment, and support and recommend future enhancements for HHS HR systems and reporting solutions; (4) analyzes HR metrics/benchmarks, internal DHR business practices, processes, and programs to enable the organization to make better decisions concerning our human capital resources; (5) coordinates and implements system access requirements which uphold the IHS security policies; and (6) serves as H-IS advocates for Human Resources Information System programs to ensure they meet IRS business and process needs.

HQ Client Services Branch (CSB) (GANC2)

(1) Provides core HR advice, operational functions and services (in the areas of strategic recruitment, staffing, delegated examining, position classification, payroll, timekeeping, performance management, awards, and Federal benefit programs), strategic human capital and workforce planning, succession planning, E-government HR initiatives and strategic planning for IHS HQ Offices; (2) provides advice, consultation, guidance and assistance to HQ Office Directors, management officials, employees and other customers on HR operational services, programs, and policies; (3) interfaces with staff of the other DHR Branches to provide for a full range of HR operational services to the HQ; and (4) complies with Indian Preference statutory and policy requirements in HR practices.

Workforce Relations and Policy Branch (WRPB) (GANC3)

(1) Develops, administers and evaluates a variety of services, products, and program policies in the areas of employee and labor relations, performance management and awards; (2) provides HR advisory and consulting services to IHS management and Regional HR management and staff while developing, administering, and evaluating compensation policy and programs designed to recruit, compensate, and retain a highly qualified, motivated, and diverse workforce; (3) provides support and assistance to the IHS leadership with planning and preparing IHS workforce programs; (4) responsible for the development and implementation of HR policies, and management of HR delegations of authority; (5) develops and provides guidance and oversight for policy for Title 5 employment mechanisms, and coordinates HR programs and policies with HHS; and (6) responds to a variety of HR issues and cases that arise from the IHS HQ and Areas that are precedent-setting, controversial, and/or require sensitive handling.

Regional Human Resource Centers—(RHRO) (GANC4-8)

Western Region (GANC4)

Northern Plains Region (GANC5)

Southwest Region (GANC6)

Navajo Region (GANC7)

Southeast Region (GANC8)

(1) Provides overall leadership and direction for the IHS HR program within the established Region; (2) administers HR policies and regulations and provides leadership to ensure implementation; (3) provides advice, consultation, guidance and assistance to Area Directors, management officials, employees and other customers on civil service HR issues, programs and policies; (4) provides leadership and direction to the HR staff throughout the Region; (5) assures compliance with Indian Preference statutory and policy requirements in HR practices; (6) provides HR services throughout the Region, to include, but not limited to, strategic human capital and workforce planning, succession planning, E-government HR initiatives and strategic planning, HR program evaluation and oversight; strategic consultation, management advisory services, HR leadership, classification and pay administration, staffing and placement, personnel and payroll action processing, labor-management and employee relations, benefits administration and performance management; (7) provides advice, consultation, and assistance to management and when requested to Tribal officials on Tribal health program HR issues; (8) plans, administers and evaluates HR programs; (9) plans and implements HR responsibilities for IHS programs covered by the Region's appointing authority; and (10) represents the Region in matters involving HR program responsibilities.

Division of Health Professions Support (DHPS) (GAND)

(1) Develops and implements IHS programs to recruit, select, assign, and retain health care professionals and coordinates these activities with the respective disciplines; (2) assesses professional staffing needs and coordinates the development of strategies and systems to satisfy these needs; (3) coordinates the planning and development of IHS strategies and systems to improve the morale and retention of all professionals; (4) coordinates HQ activities for physician residency and training programs; (5) coordinates the IHS National Health Service Corps (NHSC) program, including liaison and assignment of NHSC scholarship recipients to IRS; (6) develops priority sites for the loan repayment program; (7) coordinates placement of professionals with loan repayment obligations; (8) serves as IHS coordinator for preparatory, pre-graduate and health professions IHS scholarship recipients; (9) retrieves, establishes, and manages information and data on the IHS work force; and (10) conducts work force data analyses, including trends and projections, identifying work force needs by major personnel systems, categories, and disciplines.

Health Professions Support Branch (HPSB) (GAND1)

(1) Develops the IHS program to recruit, select, assign, and retain health care professionals, in accordance with policies and guidance provided by the DHR; (2) assesses IHS professional staffing needs; (3) provides research and analysis functions related to recruitment and retention of health professionals for Chief Medical Officers, Clinical Directors, and senior clinicians; (4) manages and supports health professions education programs and activities; (5) processes waivers and defaults of participants in IHS scholarship programs and the IHS Loan Repayment Program (LRP) as mandated by Section 108 of the IHCIA; (6) coordinates the debt management function with the Program Support Center; and (7) develops and administers Indian Health Professions programs authorized by the IHCIA, as amended.

Loan Repayment Branch (LRB) (GAND2)

(1) Awards and places recipients in IHS, Tribal, and Urban sites and monitors and processes waivers and defaults of participants in the LRP as mandated by Section 108 of the IHCIA; and (2) coordinates program administration with the IHS Area Office and Service Unit personnel, particularly recruitment and retention activities, including Chief Medical Officers, Clinical Directors, and professional recruiters.

Scholarships Branch (SB) (GAND3)

Develops, administers, and evaluates programs in the IHS Scholarship Program authorized under the IHCIA: Section 102 (Health Professions Recruitment Program for Indians), Section 103 (Health Professions Preparatory Scholarship Program for Indians), Section 104 (Indian Health Professions Scholarship Program), Section 105 (IHS Extern Program), Section 112 (Nursing Program), Section 114 (INMED Program), Section 120 (Matching Grants to Tribes for Scholarship Programs), Section 217 (American Indians Into Psychology Program), and other funded programs authorized under the IHCIA.

Office of Public Health Support (OPHS) (GAH)

(1) Advises and supports the IHS Director on policy, budget formulation, and resource allocation regarding the operation and management of IHS, Tribal, and Urban Indian health programs; (2) provides IHS-wide leadership, guidance and support for public health program and activities including strategic planning, evaluation, Government Performance and Results Act (GPRA), research, epidemiology, and statistics; (3) provides Agency-wide leadership and consultation to IHS, Tribal, and Urban Indian health programs on IHS goals, objectives, policies, standards, and priorities; (4) advocates for the public health needs and concerns of Al/AN and promotes quality health care; (5) manages and provides national leadership and consultation for IHS on assessments of public health medical services, research agendas, special pay, and public health initiatives for the Agency; (6) supports and advocates for AI/AN to access State and local public health programs; and (7) participates in cross-cutting issues and processes including, but not limited to emergency preparedness/security, budget formulation, self-determination issues, Tribal shares computations and resolution of audit findings as may be needed and appropriate.

Division of Epidemiology and Disease Prevention (DEDP) (GAHA)

(1) Prevents and controls chronic and communicable disease through epidemiology and applied public health practice; (2) builds capacity in Tribal communities through a network of Tribal Epidemiology Centers; (3) collaborates with the Centers for Disease Control and Prevention (CDC) and directs staff detailed to the IRS from the CDC; (4) describes causes, patterns, and risk factors for disease and death, and develops public health policy and interventions; (5) serves IHS and Tribal communities through disease surveillance, health data management, analysis and reporting, community surveys, emergency response, training in public health practice and epidemiology, consultation to clinicians and technical support for public health activities and assessment of public health system performance; (6) supports epidemiology, disease control, and prevention programs for chronic diseases, including cancer, tobacco control, cardiovascular disease, diabetes, kidney disease, environmental health, maternal health, child health, and others; and (7) supports epidemiology, disease control, and prevention programs for communicable diseases, including tuberculosis, HIV/AIDS, sexually-transmitted diseases, hepatitis, hantavirus, antibiotic-resistant infections, immunizations, bioterrorism preparedness and others.

Chronic Disease Branch (CDB)

Supports epidemiology, disease control, and prevention programs for chronic diseases, including cancer, tobacco control, cardiovascular disease, diabetes, kidney disease, environmental health, maternal health, child health, and others.

Infectious Disease Branch (IDB)

Supports epidemiology, disease control, and prevention programs for communicable diseases, including tuberculosis, HIV/AIDS, sexually-transmitted diseases, hepatitis, hantavirus, antibiotic-resistant infections, immunizations, bioterrorism preparedness, and others.

Division of Program Statistics (DPS) (GAHB)

(1) Plans, develops, directs, and coordinates an analytical statistical reporting program to provide data for measuring the health status and unmet health needs of the Al/AN population; (2) develops and coordinates the collection, processing, and analysis of demographic, patient care, and clinical data for the Agency; (3) maintains, analyzes, makes accessible, and publishes results from national demographic and clinical analyses; and (4) provides statistical and analytical consultation to other divisions and agencies.

Demographics Statistics Staff (DS)

(1) Plans, develops and executes a major nation-wide statistical program for the collection, processing, analysis and dissemination of demographic characteristics of the AT/AN population located throughout the United States; (2) coordinates with the National Center for Health Statistics the analysis and reporting of vital event information for the AT/AN population; and (3) provides statistical and analytical consultation to other divisions and agencies.

Patient Care Statistics Staff (PCSS)

(1) Plans, develops and executes a major nation-wide statistical program for the collection, processing, analysis and dissemination of patient care data and special studies with emphasis on health and demographic characteristics of the Al/AN population located throughout the United States; (2) evaluates facility workload trends and participates in the development of methodologies for constructing long-range estimates of inpatient and ambulatory care workloads for use in facility construction and planning; and (3) coordinates with the IHS National Data Repositories, the analysis and reporting of program, patient care and clinical data for the Agency.

Division of Planning, Evaluation and Research (DPER) (GAHC)

(1) Develops and coordinates Agency strategic planning and performance measurement efforts (including GPRA and Program Assessment Rating Tool) with budgeting requirements in consultation with IHS program staff; (2) provides consultation and coordination on the IRS budget formulation activity for planning and data purposes; (3) conducts, facilitates, solicits, coordinates, and evaluates community-oriented practice-based research related to health problems and the delivery of care to AI/AN people and communities with a major focus on improving the health status and systems of care; (4) provides guidance and support for IHS-wide program evaluation projects; and (5) provides support for public health planning services, facilities and staffing.

Office of Management Services (OMS) (GAL)

(1) Provides IRS-wide leadership, guidance and support for the management of grants, acquisitions, records management, personal property, supply, and the regulations program; (2) formulates, administers, and coordinates the review and analysis of IRS-wide policies, delegations of authority, and organizations and functions development; (3) develops and oversees the implementation of policies, procedures and delegations of authority for IHS grants management activities, including grants added to self-governance compacts; (4) ensures that IHS policies and practices for the administrative functions identified above are consistent with applicable regulations, directives and guidance from higher echelons in the HHS and other Federal oversight agencies; (5) advises the IHS Director, in conjunction with the Office of the General Counsel (OGC), on the resolution of statutory and regulatory issues related to the MS and coordinates resolution of IHS legal issues with the OGC, IHS staff, and other Federal agencies; (6) assures that IHS appeal systems meet legal standards, in conjunction with the OGC; (7) coordinates the development, clearance, and transmittal of IHS responses and follow-up to reports issued by the OIG, the GAO, and other Federal internal and external authorities; (8) provides leadership and direction of activities for continuous improvement of management accountability and administrative systems for effective and efficient program support services IHS-wide; (9) ensures the accountability and integrity of grants and acquisition management, records management, personal property utilization and disposition of MS resources; (10) assures that the IHS management services, policies, procedures, and practices support ES Indian Self-Determination Act policies; (11) assists in the assurance of Indian access to State, local, and private health programs; (12) provides leadership and advocacy of the IHS mission and goals with the HHS, Administration, Congress, and other external authorities; and (13) participates in cross-cutting issues and processes including, but not limited to emergency preparedness/security, budget formulation, self-determination issues, Tribal shares computations and resolution of audit findings as may be needed and appropriate.

Division of Management Policy and Internal Control (DMPIC) (GALA)

(1) Formulates, administers, and supports IHS-wide policies, delegations of authority, and organizations and functions development; (2) provides leadership, on behalf of the IHS Director, to functional area managers at IHS HQ in developing, modifying, and overseeing the implementation of IHS policies and procedures; (3) provides analysis, advisory, and assistance services to IHS managers and staff for the development, clearance, and filing of IHS directives and delegations of authority; (4) serves as principal advisor and source for technical assistance for establishment or modification of organizational infrastructures, functions, and Standard Administrative Code configurations; (5) administers the IHS Management Control Program for assuring IHS' compliance with management control requirements in the Federal Managers' Financial Integrity Act of 1982; (6) provides assistance and support to special assigned task groups; (7) conducts special program or management integrity reviews as required; (8) oversees and coordinates the annual development and submission of the Agency's Federal Activities Inventory Reform Act report to the HHS; (9) plans, develops, and administers the IHS personal property management program in conformance with Federal personal property management laws, regulations, policies, procedures, practices, and standards; (10) interprets regulations and provides advice on execution and coordination of personal property management policies and programs; (11) administers management systems and methods for planning, utilizing, and reporting on personal property programs, including the precious metals recovery program and IHS personal property accountability and control systems; (12) provides guidance and serves as principal administrative authority on Federal personal property management laws, regulations, policies, procedures, practices, and standards, in conjunction with the OGC; (13) conducts surveys and studies involving evaluation and analysis of the personal property management activities IHS-wide; (14) maintains liaison with the HHS and the General Services Administration (GSA) on personal property management issues and programs affecting the 11-IS; (15) plans, develops and administers the IHS Fleet Management Program; (16) prepares reports on IHS personal property activities; and (17) administers the local HQ personal property management program to include receiving, tagging, storage and disposal in addition to conducting the annual inventory for all HQ locations.

Division of Administrative Services (DAS) (GALB)

(1) Plans, develops and directs program support and general services programs; (2) provides policy guidance and support in the development, planning, and implementation of administrative functions; (3) serves as liaison with the HHS and the GSA on logistics issues affecting the IHS; (4) monitors, evaluates, and reports on administrative programs and services; (5) provides guidance and oversight to the IHS on the control and safeguard of classified national security information; (6) plans, develops and administers the IHS-wide Homeland Security Presidential Directive 12 (HSPD-12) program to include providing leadership on the Physical Access Control Systems, and the Physical Security Program in a collaborative role with the Office of Environmental Health and Engineering; (7) provides special transportation and security; (8) provides leadership and guidance for the IHS Forms Management Program; (9) administers physical security, facility management, space management services, GSA lease management, telecommunication services, parking management, including the employee transit subsidy program, and HSPD-12 badge issuance for HQ; (10) administers the IRS mail and commercial printing programs; (11) provides leadership and coordination in the planning, development, operation, oversight, and evaluation of special office support projects for office relocations, and inter- and intra-agency activities; (12) plans, develops, and administers the IRS policies on supply management in conformance with Federal supply management laws, regulations, policies, procedures, practices, and standards; (13) interprets regulations and provides advice on execution and coordination of supply management policies and programs; (14) administers management systems and methods for planning, utilizing, and reporting on administrative supply management programs, including the IHS supply accountability and controls systems; (15) provides guidance and serves as principal administrative authority on Federal supply management laws, regulations, policies, procedures, practices, and standards, in conjunction with the OGC; (16) conducts surveys and studies involving evaluation and analysis of the supply management activities IHS-wide; (17) maintains liaison with the HHS and the GSA on supply management issues and programs affecting the IRS; (18) prepares reports on IHS supply; and (19) plans, develops, and administers an integrated IRS supply system.

Division of Acquisitions Policy (DAP) (GALC)

(1) Develops, recommends, and oversees the implementation of policies, procedures and delegations of authority for the acquisition management activities in the IRS, consistent with applicable regulations, directives, and guidance from higher echelons in the HHS and Federal oversight agencies; (2) advises the Director, OMS, of proposed legislation, regulations, and directives that affect contracts in the IHS; (3) provides leadership for compliance reviews of all IHS acquisition operations; (4) oversees completion of necessary corrective actions; (5) manages for the Agency, the HHS acquisition training and certification program; (6) supports and maintains the IHS Contract Information System and controls entry of data into the HHS Contract Information System; (7) serves as the IHS contact point for contract protests and the HHS contact for contract-related issues; (8) reviews and makes recommendations for approval/disapproval of contract-related documents such as: Pre- and post-award documents, unauthorized commitments, procurement planning documents, Justification for Other Than Full and Open Competition waivers, deviations, and determinations and findings that require action by the Agency Head of the Contracting Activity, or the Office of the Secretary; (9) processes unsolicited proposals for the IHS; (10) coordinates the IHS Small Business programs; and (11) oversees compliance with the Buy Indian Act.

Division of Grants Management (DGM) (GALD)

(1) Directs grants management and operations for the IHS; (2) awards and administers grants and cooperative agreements for IHS financial assistance programs; (3) provides assistance for the resolution of audit findings for grant programs; (4) manages for the Agency, the HHS grants training and certification program; (5) continuously assesses grants operations; (6) oversees completion of necessary corrective action plans; (7) reviews and makes recommendations for improvements in grantee and potential grantee management systems; (8) serves as the IHS liaison with the HHS and the public for grants and other financial assistance programs within the IHS; (9) maintains the Catalog of Federal Domestic Assistance for IHS financial assistance programs; (10) conducts grants-related training for IHS staff, grantees, and potential grantees; (11) coordinates payment to grantees, including scholarship recipients; and (12) establishes and maintains the IHS automated Grants Information System and controls data entry into the HHS automated Grants Information System.

Division of Regulatory Affairs (GALE)

(1) Manages the IHS' overall regulations program and responsibilities, including determining the need for and developing plans for changes in regulations, developing or assuring the development of needed regulations, and maintaining the various regulatory planning processes; (2) serves as IHS liaison with the Office of the Federal Register on matters relating to the submission and clearance of documents for publication in the Federal Register; (3) assures proper Agency clearance and processing of Federal Register documents; (4) informs management and program officials of regulatory activities of other Federal agencies; (5) manages the IHS review of non-IHS regulatory documents that impact the delivery of health services to Indians including but not limited to access and civil rights aspects and State Medicaid waiver applications by coordinating with the OGC Public Health Division; (6) advises the IHS Director and serves as liaison with the OGC on such matters as litigation, regulations, related policy issues, and administrative support issues; (7) determines the need for and obtains legal clearance of IRS directives and other issuances; (8) coordinates legal issues with the OGC, IHS, HHS components, and other Federal agencies, including the identification and formulation of legal questions and advising on the implementation of OGC opinions; (9) assures that IHS' appeals processes meet legal standards; (10) advises on and participates in Indian Self-Determination and Education Assistance Act appeals and hearings; (11) advises on the administration of the contract health services (CHS) appeals system and is a participant in the IRS Director's CHS appeal decisions; (12) manages the retrieval and transmittal of information in response to requests received under the Freedom of Information Act (FOIA), Privacy Act, the Health Insurance Portability and Accountability Act (HIPAA) Privacy and the Health Information Technology for Economic and Clinical Health (HITECH) Act, in collaboration with the Public Affairs Staff; (13) ensures the security of sensitive and/or confidential information when responding to FOIA, Privacy Act, HIPAA Privacy, and HITECH Act issues; (14) advises the IHS Director regarding requests for IHS employees to serve as expert witnesses when IRS is not a party to the suit; (15) provides leadership and guidance for the IHS Records Management Program; (16) develops and recommends policies and procedures for the protection and disposition of JETS records and oversees the evaluation of records management activities in the IRS; (17) develops and implements a management control system for evaluation of records management functions IHS-wide; (18) maintains and updates various regulatory agendas; (19) manages, administers, implements and monitors the IRS's Paperwork Reduction Act and Office of Management and Budget (OMB) information collection/activities; (20) provides guidance and technical assistance to JETS regarding information collection requirements and procedures for obtaining OMB approvals and extensions for IHS information collections; (21) coordinates the implementation and the application of Privacy Act, HIPAA Privacy, and HITECH Act requirements, including but not limited to HIPAA and HITECH Act compliance; (22) maintains and distributes the Compendium of Legal Opinions; (23) reviews IHS directives and other issuances for needed legal clearances; (24) advises on the impact on IHS and the Indian community of State and Federal health reforms; and (25) provides policy review and advice on the need for or application of legal opinions.

Section GA-40, Indian Health Service—Delegations of Authority

All delegations of authority and re-delegations of authority made to IHS officials that were in effect immediately prior to this reorganization, and that are consistent with this reorganization, shall continue in effect pending further re-delegation.

This reorganization shall be effective on 11/01/2014.

Dated: October 24, 2014.
Yvette Roubideaux,
Acting Director, Indian Health Service.

[FR Doc. 2014-26221 Filed 11-4-14; 8:45 am]

BILLING CODE 4165-16-M